DEPARTMENT OF COMMERCE

National Oceanic and Atmospheric Administration

[I.D. 122104A]

Vessel Monitoring Systems; Approved Mobile Transmitting Units for use in the South Atlantic Rock Shrimp Fishery

AGENCY: National Marine Fisheries Service (NMFS), National Oceanic and Atmospheric Administration (NOAA), Commerce.

ACTION: Notice of vessel monitoring systems; approval.

SUMMARY: This document provides notice of vessel monitoring systems (VMS) approved by NOAA for use by vessels participating in the Rock Shrimp Fishery of the South Atlantic Region and sets forth relevant features of the VMS, and supersedes all previous type approval notices for the South Atlantic Rock Shrimp Fishery.

ADDRESSES: To obtain copies of the list of NOAA-approved VMS mobile transmitting units and NOAA-approved VMS communications service providers, or to obtain information regarding the status of VMS systems being evaluated by NOAA for approval, write to NOAA Fisheries Office for Law Enforcement (OLE), 8484 Georgia Avenue, Suite 415, Silver Spring, MD 20910.

To submit a completed and signed checklist, mail or fax it to NOAA Enforcement, 9721 Executive Center Drive North, Koger Building, St. Petersburg, FL 33702, fax 727-570-5355. For more addresses regarding approved VMS, see the SUPPLEMENTARY INFORMATION section, under the heading VMS Provider Addresses.

FOR FURTHER INFORMATION CONTACT: For current listing information contact Mark Oswell, Outreach Specialist, phone 301-427-2300, fax 301-427-2055. For questions regarding VMS installation, activation checklists, and status of evaluations, contact Jonathan Pinkerton, National VMS Program Manager, phone 301-427-2300, fax 301-427-2055. For questions regarding the installation checklist, contact Beverly Lambert, Southeast Division VMS Program Manager, NMFS Office for Law Enforcement, phone 727-570-5344.

The public may acquire this notice, installation checklist, and relevant updates via the OLE website http://www.nmfs.noaa.gov/ole/vms.html. Telephone requests can be made by calling 301-427-2300.

SUPPLEMENTARY INFORMATION:

I. VMS Mobile Transceiver Units

A. Inmarsat-C Transceivers

The Inmarsat-C satellite communications VMS transmitting units that meet the minimum technical requirements for the Rock Shrimp Fishery are the Thrane & Thrane Fishery “Capsat” (part number TT-3022D-NMFS) and the Thrane & Thrane Fishery “Mini-C” (part number TT-3026-NMFS). The address for the Thrane & Thrane distributor (Thrane & Thrane) dealer contact is provided in this notice under the heading VMS Provider Addresses.

Thrane & Thrane TT-3022D-NMFS features: The transceiver consists of an integrated GPS/Inmarsat-C unit in the wheelhouse and an antenna mounted atop the vessel. The unit is factory pre-configured for NMFS VMS operations (non-Global Maritime Distress & Safety System (non-GMDSS)). Satellite commissioning services are provided by Thrane & Thrane personnel.

Automatic GPS position reporting starts after transceiver installation and power activation onboard the vessel. The unit is a car-radio-sized transceiver using a floating 10 to 32 VDC power supply. The unit is configured for automatic reduced position transmissions when the vessel is stationary (i.e., in port). It allows for port stays without power drain or power shut down. The unit restarts normal position transmission automatically when the vessel goes to sea.

The outside antenna, model TT-3005M, is a compact omni-directional Inmarsat-C/GPS antenna, providing operation down to +/-15 deg. angles.

A configuration option is available to automatically send position reports to a private address, such as a fleet management company. Another available option is the ability to send and receive private e-mail and other messages with the purchase and installation of an input device such as a laptop, personal computer, or message display terminal.

Thrane & Thrane TT-3026-NMFS features: The transceiver consists of an integrated GPS/Inmarsat-C unit mounted atop the vessel. The unit is factory pre-configured for NMFS VMS operations (non-Global Maritime Distress & Safety System (non-GMDSS)). Satellite commissioning services are provided by Thrane & Thrane personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026-NMFS provides operation down to +/-15 degree angles. Although the unit has the capability of two-way communication to send and receive private e-mail and other messages, it can only use this capability when additional equipment - not required by NMFS - is utilized (i.e., a laptop, personal computer, or message display terminal). A configuration option is available to automatically send position reports to a private address, such as a fleet management company.

A vessel owner may purchase either of these systems by contacting the entity identified under the heading VMS Provider Addresses. The owner should identify himself or herself as a vessel owner in the “U.S. South Atlantic Rock Shrimp Fishery” so the transceiver set can be configured for the Rock Shrimp Fishery.

To use the TT-3022D-NMFS or the TT-3026-NMFS, the vessel owner will need to establish an Inmarsat-C system use contract with an approved Inmarsat-C communications service provider. The owner will be required to complete the Inmarsat-C “Registration for Service Activation for Maritime Mobile Earth Station.” The owner should consult with Thrane & Thrane when completing this form.

Thrane & Thrane personnel will perform the following services before shipment: (1) configure the transceiver according to NOAA Fisheries Office for Law Enforcement specifications for the Rock Shrimp Fishery; (2) download the predetermined NMFS position reporting and broadcast command identification numbers into the unit; (3) test the unit to ensure operation when installation has been completed on the vessel; and (4) forward the Inmarsat service provider and the transceiver identifying information to the NOAA Fisheries Office for Law Enforcement.

B. ORBCOMM Transceivers

The ORBCOMM satellite communications VMS transmitting unit that meets the minimum technical requirements for U.S. South Atlantic Rock Shrimp Fishery requiring VMS is the Stellar ST2500G (part number ST2500G-NMFS). The address for ORBCOMM Value Added Resellers (VAR) and their regional sales outlets around the country are provided in this notice under the heading VMS Provider Addresses.

The Stellar ST2500G-NMFS transceiver consists of an integrated GPS/ORBCOMM satellite communicator mounted in the wheelhouse and antennas mounted atop the vessel. The unit is pre-configured and tested for NMFS VMS operations. Satellite commissioning services are available from several VMS providers.

Automatic GPS position reporting starts after transceiver installation and power activation onboard the vessel. The unit is a car radio-sized transceiver powered by any 12 to 32 VDC power supply. It is factory configured for automatic reduced position transmissions when the vessel is stationary (i.e., in port) which allows for port stays without power drain or unit shut down. The unit restarts normal position transmission automatically when the vessel goes to sea.

The ST2500G has an omni-directional VHF antenna, providing operation from +/-5 degrees above the horizon. A configuration option is available to automatically send position reports to a private e-mail address or to a secure web site where the data is displayed on a map and in tabular form. Another available option is the ability to send and receive private e-mail from a laptop, personal computer or specific handheld devices. A complete list of devices, supported operating systems and available software solutions can be obtained from any ORBCOMM VAR.

Please note that any “assistance” or “emergency” functions integrated into a VMS unit are not supported by NOAA, although they may be supported by other parties.

A vessel owner wishing to purchase the Stellar ST2500G transceiver will be required to complete an ORBCOMM “Provisioning” form via the Internet at www.orbcomm.com. The owner should identify him or herself as a vessel owner in the “U.S. South Atlantic Rock Shrimp Fishery.” If assistance is required, the owner may consult with the VAR or one of the entities identified in this notice under the heading VMS Provider Addresses. The unit will be configured specifically for the U.S. South Atlantic Rock Shrimp Fishery.

The ORBCOMM VMS VAR will perform the following services before shipment: (1) configure the transceiver according to OLE specifications for the U.S. South Atlantic Rock Shrimp Fishery, (2) download the predetermined NMFS position reporting applications into the unit, (3) test the unit to ensure proper operation prior to shipping, and (4) forward the service provider and the transceiver identifying information to OLE and test the unit when the installation has been completed on the vessel.

II. Communications Service Providers

OLE has approved the below-listed communications service providers: ORBCOMM, Stratos, Telenor, and Xantic satellite communications services.

A. ORBCOMM

NMFS recommends, for vendor warranty and customer service purposes, that the vessel owner and the VAR have on record the following identifying information: (1) signed and dated receipts and contracts, (2) satellite communicator identification number, (3) VAR customer number, (identification number/unit surname name combination), (4) e-mail address of satellite communicator (surname@ORBCOMM.net), (5) owner name, (6) vessel name, and (7) vessel documentation or registration number.

VMS units must be installed in accordance with vendor instructions and specifications. Installation can be performed by experienced crew, a VAR, or an electronics specialist. All installation costs are paid by the owner. The vessel owner is required to fax or mail the Rock Shrimp Fishery Activation Fax directly to NOAA Enforcement, 9721 Executive Center Drive North, Koger Building, St. Petersburg, FL 33702, fax 727-570-5355.

The owner must confirm the Stellar ST2500G-NMFS operation and communications service to ensure that position reports are automatically sent to and received by OLE before leaving on their first fishing trip requiring VMS. OLE does not regard the fishing vessel as meeting the requirements until position reports are automatically received. For confirmation purposes, owners must contact the NOAA Enforcement, 9721 Executive Center Drive North, Koger Building, St. Petersburg, FL 33702, phone 727-570-5344, fax 727-570-5355.

ORBCOMM is a store-and-forward data messaging service allowing users to send and receive information virtually anywhere in the world. ORBCOMM supports a wide variety of applications including plain text Internet-based e-mail, position and weather reporting, and remote equipment monitoring and control. Mariners can use ORBCOMM free of charge to send critical safety at-sea messages as part of the U.S. Coast Guard's Automated Mutual-Assistance Vessel Rescue System. VMS services are being sold through specific ORBCOMM VARs.

ORBCOMM customer service supports the security and privacy of vessel accounts and messages by requiring password authentication of vessel owners or agents and OLE personnel to prevent unauthorized changes or inquiries, and by separating private messages from OLE messages. (OLE presently requires VMS-related position reports, only.)

Billing is separated between accounts for the vessel owner and OLE. VMS position reports and vessel-initiated messaging are paid by the vessel owner. Messaging initiated from OLE operations center is paid by OLE.

ORBCOMM provides customer service through its VARs to establish and support two-way transmission of transceiver unit configuration commands between the transceiver and land-based control centers. This supports OLE's message needs and, optionally, fishermen's private e-mail needs.

The owner should refer to and follow the configuration, installation, and service activation procedures for the Stellar ST2500G-NMFS satellite communicator.

B. INMARSAT-C Communications Providers

NMFS recommends, for vendor warranty and customer service purposes, that the vessel owner, Stratos, Telenor and Xantic have on record the following identifying information: (1) signed and dated receipts and contracts, (2) transceiver serial number, (3) Stratos, Telenor or Xantic customer number, user name and password, (4) e-mail address of transceiver, (5) Inmarsat identification number, (6) owner name, (7) vessel name, (8) vessel documentation or registration number, and (9) mobile earth station license (FCC license).

VMS units must be installed in accordance with vendor instructions and specifications and can be performed by experienced crew or by an electronics specialist; costs are paid by the owner. The vessel owner is required to fax or mail the VMS Activation Fax directly to NOAA Enforcement, 9721 Executive Center Drive North, Koger Building, St. Petersburg, FL 33702, phone 727-570-5344, fax 727-570-5355.

The owner must confirm the TT-3022D-NMFS or TT-3026-NMFS operation and communications service to ensure that position reports are automatically sent to and received by OLE before leaving on their first fishing trip under VMS. OLE does not regard the fishing vessel as meeting the requirements until position reports are automatically received. For confirmation purposes, contact NOAA Enforcement, 9721 Executive Center Drive North, Koger Building, St. Petersburg, FL 33702, phone 727-570-5344, fax 727-570-5355.

B1. Telenor Satellite Services

Inmarsat-C is a store-and-forward data messaging service. It allows users to send and receive information virtually anywhere in the world, on land, at sea, and in the air. Inmarsat-C supports a wide-variety of applications including Internet-based e-mail, position and weather reporting, a free daily news service, and remote equipment monitoring and control. Mariners can use Inmarsat-C free of charge to send critical safety at-sea messages as part of the U.S. Coast Guard's Automated Mutual-Assistance Vessel Rescue System and NOAA's Shipboard Environmental Acquisition System programs.

Telenor Vessel Monitoring System Services is being sold through Thrane & Thrane Inc. For the Thrane & Thrane and Telenor addresses, look in this notice under the heading VMS Provider Addresses.

B2. Xantic

Xantic is a provider of vessel monitoring services to the fishing industry. By installing an OLE-approved Inmarsat-C transceiver on the vessel, fishermen can send and receive e-mail, to and from land. The transceiver automatically sends vessel position reports to OLE, and is fully compliant with Coast Guard search and rescue centers. Xantic vessel monitoring system services are being sold through Thrane & Thrane Inc. For the Thrane & Thrane and Xantic addresses, look in this notice under the heading VMS Provider Addresses.

Telenor and Xantic products and services are offered through Thrane & Thrane who supports the security and privacy of vessel accounts and messages by requiring password authentication for vessel owners or agents, and OLE personnel to prevent unauthorized changes or inquiries, and separating of private messages from OLE messages. (OLE currently requires VMS-related position reports, only.)

Billing is separated between accounts for the vessel owner and the OLE. VMS position reports and vessel-initiated messaging are paid by the vessel owner. Messaging initiated from OLE operations center is paid by NOAA.

Thrane & Thrane provides customer service for Telenor and Xantic users to support and establish two-way transmission of transceiver unit configuration commands between the transceiver and land-based control centers. This supports OLE's message needs and, optionally, fishermen's private message needs. A configuration option is available to automatically send position reports to a private e-mail address, such as a fleet management company.

B3. Stratos

Stratos provides all Inmarsat services globally and has extensive experience in the provision of Inmarsat-C messaging and tracking services. Stratos has distributors situated throughout the United States that can provide equipment, installation, commissioning and all other necessary services in compliance with NMFS requirements.

By installing an OLE approved Inmarsat-C transceiver on the vessel in accordance with vendor instructions and specifications and OLE requirements, fishermen can also easily send and receive e-mail to and from land and can also setup individual crew member accounts onboard for e-mail to family and friends without billing to the vessel, but direct billing to crew member.

Vessel owners wishing to use Stratos, Telenor or Xantic services must purchase an Inmarsat-C transceiver approved for the fishery. The owner must complete an Inmarsat-C system use contract with Stratos, Telenor or Xantic; obtain a mobile earth station license (FCC requirement). The transceiver must be commissioned with Inmarsat according to Stratos, Telenor or Xantic's instructions. The owner should refer to and follow the configuration, installation, and service activation procedures for the specific transceiver purchased.

III. VMS Provider Addresses

For ORBCOMM and Stellar ST2500G-NMFS information, contact: ORBCOMM, LLC, 21700 Atlantic Boulevard, Dulles, VA 20166 USA; voice: 800-ORBCOMM (USA) or 703-433-6300; fax: 703-433-6400; or website: www.ORBCOMM.com.

For Stratos service or to locate the nearest Stratos distributor, contact sales@stratosglobal.com, 1-888-766-1313 or in Florida contact Roberto Darias, 1-954-217-2277, or e-mail: roberto.darias@stratosglobal.com.

For Thrane & Thrane TT-3022D-NMFS or TT-3026-NMFS information, contact Ronald Lockerby, Marine Products, Thrane & Thrane, Inc., 509 Viking Drive, Suite K, L & M, Virginia Beach, VA 23452; voice: 757-463-9557; fax: 757-463-9581, e-mail: rdl@tt.dk.com; website: http://www.LandSeaSystems.com.

For Telenor or Xantic information, contact Thrane & Thrane Inc., Donna Sherman, 509 Viking Drive, Suite K, L, M, Virginia Beach, VA 23452; voice: 757 463-9557; fax: 757 463-9581 e-mail: airtime@landsea.com. Telenor and Xantic Customer Service, contact the address above or e-mail: rdl@tt.dk.com. Alternate Telenor contacts include Courtney Coleman, Manager COMSAT-C Services Marketing, 6560 Rock Spring Dr., Bethesda, MD 20817; phone: 301-838-7720; e-mail: courtney.coleman@telenor-usa.com. Alternate Xantic contacts include Folef Hooft Graafland, 6100 Hollywood Boulevard, Suite 410, Hollywood, FL 33024; voice: (954) 962-9908 ext. 11; fax: (954) 962-1164; cellular:(954) 214-2609; e-mail: folef.hooftgraafland@Xantic.net; and Andre Cortese, 1211 Connecticut Ave., NW, Suite 504, Washington, DC 20036; voice: 202-785-5615; e-mail: andre.cortese@Xantic.net.

Authority: 16 U.S.C. 1801, et seq.

Dated: March 14, 2005.
William T. Hogarth,
Assistant Administrator for Fisheries, National Marine Fisheries Service.

[FR Doc. 05-5428 Filed 3-17-05; 8:45 am]

BILLING CODE 3510-22-S